DEPARTMENT OF TRANSPORTATION

Federal Aviation Administration

14 CFR Part 39

[Docket No. 2003-CE-16-AD]

RIN 2120-AA64

Airworthiness Directives; Raytheon Aircraft Company Model 1900, 1900C, and 1900D Airplanes

AGENCY: Federal Aviation Administration, DOT.

ACTION: Notice of proposed rulemaking (NPRM).

SUMMARY: This document proposes to supersede Airworthiness Directive (AD) 97-22-16, which applies to certain Raytheon Model 1900, 1900C, and 1900D airplanes. AD 97-22-16 currently requires you to replace the bearings on the vent blower assemblies with improved design bearings and install a thermal protection device for the vent blowers. That AD resulted from reports of vent blower assembly bearings seizing and locking the blower motor on several of the affected airplanes. This proposed AD is the result of reports that vent blower assemblies modified in accordance with AD 97-22-16 are still malfunctioning. This proposed AD would retain the actions required in AD 97-22-16 for certain vent blower assemblies and require you to incorporate further product improvement modifications on all affected vent blower assemblies. The actions specified by this proposed AD are intended to prevent smoke from entering the cockpit and cabin due to the current configuration of vent blower assemblies, which could result in the pilot becoming incapacitated or impairing her/his judgment. Such a condition could lead to the pilot not being able to make critical flight safety decisions and result in loss of control of the airplane.

DATES: The Federal Aviation Administration (FAA) must receive any comments on this proposed rule on or before August 4, 2003.

ADDRESSES: Submit comments to FAA, Central Region, Office of the Regional Counsel, Attention: Rules Docket No. 2003-CE-16-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-16-AD” in the subject line. If you send comments electronically as attached electronic files, the files must be formatted in Microsoft Word 97 for Windows or ASCII text.

You may get service information that applies to this proposed AD from Raytheon Aircraft Company, 9709 E. Central, Wichita, Kansas 67201-0085; telephone: (800) 429-5372 or (316) 676-3140. You may also view this information at the Rules Docket at the address above.

FOR FURTHER INFORMATION CONTACT: Dan Withers, Aerospace Engineer, Wichita Aircraft Certification Office, FAA, 1801 Airport Road, Wichita, Kansas 67209; telephone: (316) 946-4196; facsimile: (316) 946-4107.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2003-CE-16-AD.” We will date stamp and mail the postcard back to you.

Discussion

Has FAA Taken Any Action to This Point?

Reports of the vent blower assembly bearings seizing and locking the blower motor on several Raytheon Model 1900, 1900C, and 1900D airplanes caused us to issue AD 97-22-16, Amendment 39-10187 (62 FR 58894, October 31, 1997. AD 97-22-16 currently requires the following on certain Raytheon Model 1900, 1900C, and 1900D airplanes:

—Incorporating a modification to replace the bearings in the vent blower assemblies with improved design bearings (Electromech Technologies Kit No. EM630-201-1 or EM630-201-2 (as appropriate for the blower serial number)); and

—Installing a thermal protection for the vent blowers (Electromech Technologies Kit No. EM630-201-1 or EM630-201-2 or Advanced Industries Kit No. BC80A905 (as appropriate for the blower serial number)).

What Has Happened Since AD 97-22-16 To Initiate This Proposed Action?

The FAA has received reports that vent blower assemblies modified in accordance with AD 97-22-16 are still malfunctioning.

Is There Service Information That Applies to This Subject?

Raytheon has issued Mandatory Service Bulletin SB 21-3448, Issued: October, 2002.

What Are the Provisions of This Service Information?

This service bulletin includes procedures for incorporating Electromech Technologies Modification Kit No. P/N 630-203-1 and Advanced Industries Modification Kit No. Kit No. P/N BC80A-901-3.

The FAA's Determination and an Explanation of the Provisions of This Proposed AD

What Has FAA Decided?

After examining the circumstances and reviewing all available information related to the incidents described above, we have determined that:

—The unsafe condition referenced in this document exists or could develop on other Raytheon Model 1900, 1900C, and 1900D airplanes of the same type design;

—The actions specified in AD 97-22-16 and the previously-referenced service information should be accomplished on the affected airplanes; and

—AD action should be taken in order to correct this unsafe condition.

What Would This Proposed AD Require?

This proposed AD would supersede AD 97-22-16 with a new AD that would retain the actions required in AD 97-22-16 for certain vent blower assemblies and require you to incorporate further product improvement modifications for all affected vent blower assemblies.

How Does the Revision to 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Would This Proposed AD Impact?

We estimate that this proposed AD affects 300 airplanes in the U.S. registry.

What Would Be the Cost Impact of This Proposed AD on Owners/Operators of the Affected Airplanes?

We estimate the following costs to accomplish this proposed modification:

Labor cost | Parts cost | Total cost per airplane | Total cost on U.S. operators
3 workhours × $60 per hour = $180 | $415 (for both the forward and aft ventilation blower assemblies) | $595 | $595 × 300 = $178,500

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 97-22-16, Amendment 39-10187 (62 FR 58894, October 31, 1997), and by adding a new AD to read as follows:

Raytheon Aircraft Company: Docket No. 2003-CE-16-AD; Supersedes AD 97-22-16, Amendment 39-10187.

(a) What airplanes are affected by this AD? This AD affects the following airplane models and serial numbers that are:

(1) Certificated in any category; and

(2) Equipped with vent blower assembly, part number 114-380028-1,

114-380028-3, 114-380028-5, or 114-380028-7.

Model | Serial Nos.
1900 | UA-3.
1900C | UB-1 through UB-74 and UC-1 through UC-174.
1900 (C-12J) | UD-1 through UD-6.
1900D | UE-1 through UE-427.

(b) Who must comply with this AD? Anyone who wishes to operate any of the airplanes identified in paragraph (a) of this AD must comply with this AD.

(c) What problem does this AD address? The actions specified by this AD are intended to prevent smoke from entering the cockpit and cabin due to the current configuration of vent blower assemblies, which could result in the pilot becoming incapacitated or impairing his/her judgment. Such a condition could lead to the pilot not being able to make critical flight safety decisions and result in loss of control of the airplane.

(d) What actions must I accomplish to address this problem? To address this problem, you must accomplish the following:

Actions | Compliance | Procedures
(1) Check the maintenance records to determine if a part number (P/N)114-380028-1, 114-380028-3, 114-380028-5, or 114-380028-7 ventilation blower assembly is installed | Within the next 800 hours time-in-with service (TIS) after the effective date of this AD, unless already accomplished | In accordance Raytheon Aircraft Mandatory Service is Bulletin SB 21-3448, Issued: October, 2002. The owner/operator holding at least a private pilot certificate as authorized by section 43.7 of the Federal Aviation Regulations (14 CFR 43.7) may perform this check.
(2) If, by checking the maintenance records, the owner/operator can definitely show that a P/N 114-380028-1, 114-380028-3, 114-380028-5, or 114-380028-7 ventilation blower assembly is not installed, no further action is required by this AD. Make an entry into the aircraft records showing compliance with this portion of the AD in accordance with section 43.9 of the Federal Aviation Regulations (14 CFR 43.9) | Prior to further flight after the maintenance records check required in paragraph (d)(1) of this AD | The owner/operator holding at least a private pilot certificate as authorized by section 43.7 of the Federal Aviation Regulations (14 CFR 43.7) may perform this check.
(3) If, by checking the maintenance records, the owner/operator can definitely show that a P/N 114-380028-1, 114-380028-3, 114-380028-5, or 114-380028-7 ventilation blower assembly is installed, accomplish the following for each P/N: (i) P/N 114-380028-1: modify in accordance with Raytheon Service Bulletin No. 2721, Issued: January, 1997, prior to incorporating Electromechanic Technologies Modification Kit No. P/N 630-203-01 and changing the P/N to 114-380028-11. | Accomplish all modifications prior to further flight after the maintenance check required in paragraph (d)(1) unless already accomplished | In accordance with Raytheon Aircraft Mandatory Service Bulletin SB 21-3448, Issued: October, 2002, and Raytheon Service Bulletin No. 2721, Issued: January, 1997.
(ii) P/N 114-380028-3: incorporate Advanced Industries Modification Kit No. P/N BC80A-901-3 and change the P/N to 114-380028-9. (iii) P/N 114-380028-5 with a serial number (S/N) of 2162 or above or with a S/N of 2162 with an “A” suffix: no modification is required. Change the part number to 114-380028-11 and make an entry into the aircraft records that shows compliance with this portion of the AD in accordance with section 43.9 of the Federal Aviation Regulations (14 CFR 43.9).
(iv) P/N 114-380028-5 with a S/N prior to 2162 without an “A” suffix: incorporate Electromechanic Technologies Modification Kit No. P/N 630-203-01 and change the P/N to 114-380028-11. (v) P/N 114-380028-7: incorporate Advanced Industries Modification Kit No. P/N BC80A-901-3 and change the P/N to 114-380028-9.
(4) If the pilot cannot definitely show that a P/N 114-380028-1, 114-380028-3, 114-380028-5, or 114-380028-7 ventilation blower assembly is installed through the maintenance records check, an appropriately-rated mechanic must perform an inspection to determine the P/N of the installed ventilation blower assembly and accomplish the applicable modification required in paragraphs (d)(2)(i), (d)(2)(ii), (d)(2)(iii), (d)(2)(iv), and (d)(2)(v) of this AD | Inspect within the next 800 hours TIS after the effective date of this AD. Perform all modifications prior to further flight | In accordance with Raytheon Aircraft Mandatory Service Bulletin SB 21-3448, Issued: October, 2002, and Raytheon Service Bulletin No. 2721, Issued: January, 1997.
(5) Do not install any P/N 114-380028-1, 114-380028-3, 114-380028-5, or 114-380028-7 ventilation blower assembly, unless it has been modified as specified in paragraphs (d)(2)(i), (d)(2)(ii), (d)(2)(iii), (d)(2)(iv), and (d)(2)(v) of this AD | As of the effective date of this AD | In accordance with Raytheon Aircraft Mandatory Service Bulletin SB 21-3448, Issued: October, 2002, and Raytheon Service Bulletin No. 2721, Issued: January, 1997.

(e) Can I comply with this AD in any other way?

(1) To use an alternative method of compliance or adjust the compliance time, follow the procedures in 14 CFR 39.19. Send these requests to the Manager, Wichita Aircraft Certification Office (ACO). For information on any already approved alternative methods of compliance, contact Dan Withers, Aerospace Engineer, Wichita Aircraft Certification Office, FAA, 1801 Airport Road, Wichita, Kansas 67209; telephone: (316) 946-4196; facsimile: (316) 946-4107.

(2) Alternative methods of compliance approved in accordance with AD 97-22-16, which is superseded by this AD, are not approved as alternative methods of compliance with this AD.

(f) How do I get copies of the documents referenced in this AD? You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

(g) Does this AD action affect any existing AD actions? This amendment supersedes AD 97-22-16, Amendment 39-10187.

Issued in Kansas City, Missouri, on May 28, 2003.
David R. Showers,
Acting Manager, Small Airplane Directorate, Aircraft Certification Service.

[FR Doc. 03-13979 Filed 6-3-03; 8:45 am]

BILLING CODE 4910-13-P